DEPARTMENT OF TRANSPORTATION

Federal Aviation Administration

Fifty-Fourth Meeting: RTCA Special Committee 186: Automatic Dependent Surveillance—Broadcast (ADS-B)

AGENCY: Federal Aviation Administration (FAA), DOT.

ACTION: Notice of RTCA Special Committee 186: Automatic Dependent Surveillance—Broadcast (ADS-B) meeting.

SUMMARY: The FAA is issuing this notice to advise the public of a meeting of RTCA Special Committee 186: Automatic Dependent Surveillance—Broadcast (ADS-B).

DATES: The meeting will be held May 3-5, 2011 from 9 a.m. to 5 p.m.

ADDRESSES: The meeting will be held at the RTCA Conference Rooms, 1828 L Street, NW., Suite 805, Washington, DC 20036.

FOR FURTHER INFORMATION CONTACT: RTCA Secretariat, 1828 L Street, NW., Suite 805, Washington, DC, 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186, Automatic Dependent Surveillance—Broadcast (ADS-B) meeting. The agenda will include:

Specific Working Group Sessions

Tuesday, May 3

• All Day, WG-6 Application Technical Requirements, MacIntosh-NBAA Room & Hilton-ATA Room

Wednesday, May 4

• All Day, WG-6 Application Technical Requirements, MacIntosh-NBAA Room & Hilton-ATA Room

Thursday, May 5

• Plenary Session

Agenda—Plenary Session—Agenda

May 5, 2011

RTCA—Washington, DC—MacIntosh-NBAA Room & Hilton-ATA Room

9 a.m.

• Chairman's Introductory Remarks

• Review of Meeting Agenda

• Review and Approval of the 53rd Meeting Summary, RTCA Paper No. 035-11/SC186-307

• FAA Surveillance and Broadcast Services (SBS) Program Status

• Traffic Situation Awareness with Alerts (TSAA)

• Con-Ops Presentation

• ADS-B IM Coordination with SC-214/WG-78 for Data Link Rqts, Discussion and Status

• ADS-B Coordination with SC-206 for Wake Vortex, Discussion and Status

• Working Group Reports

• WG-1—Operations and Implementation

• WG-2—TIS-B MASPS—no report

• WG-3—1090 MHz MOPS -

• Errata Activity and Status

• WG-4—Application Technical Requirements

• Pre-FRAC Briefing for DO-317A

• WG-5—UAT MOPS—No Report

• WG-6—ADS-B MASPS

• RFG—Requirements Focus Group

• Date, Place and Time of Next Meeting

• New Business

• Other Business

• Review Action Items/Work Programs

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 14, 2011.
Robert L. Bostiga,
RTCA Advisory Committee.

[FR Doc. 2011-9491 Filed 4-19-11; 8:45 am]

BILLING CODE 4910-13-P